DEPARTMENT OF ENERGY

Federal Energy Regulatory Commission

[Docket No. CP06-40-000]

Duke Energy Field Services, LP; Notice of Petition for a Declaratory Order

December 22, 2005.

Take notice that on December 16, 2005, Duke Energy Field Services, LP (DEFS), filed pursuant to Rule 207(a)(2) of the Rules of Practice and Procedure of the Federal Energy Regulatory Commission, a petition for a declaratory order. In its petition, DEFS requests the Commission to declare that certain Anadarko Basin area facilities to be purchased from Northern Natural Gas Company (Northern) perform a gathering function, and, upon their acquisition will be exempt from the Commission's jurisdiction pursuant to section 1(b) of the Natural Gas Act (NGA). The affected assets are Northern's Beaver Wet System, consisting of about 419 miles of Anadarko Basin area pipeline and related compression, dehydration, purification, and delivery point facilities and appurtenances, and DEFS will then simultaneously purchase Saleco from Northern. These facilities handle wet gas for delivery to processing plants and are in various counties in the Texas Panhandle, northwest Oklahoma, and southwest Kansas, all as more fully set forth in the request which is on file with Commission and open to public inspection.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date and, to the extent applicable, must be served on the applicant and on any other person designated on the official service list. This filing is available for review at the Commission or may be viewed on the Commission's Web site at http://www.ferc.gov, using the “e-Library” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: January 11, 2006.

Magalie R. Salas,
Secretary.

[FR Doc. E5-8163 Filed 12-30-05; 8:45 am]

BILLING CODE 6717-01-P